DEPARTMENT OF ENERGY

Federal Energy Regulatory Commission

[Docket No. AD24-11-000]

Large Loads Co-Located at Generating Facilities; Second Supplemental Notice of Commissioner-Led Technical Conference

As announced in the August 2, 2024 Notice in this proceeding, the Federal Energy Regulatory Commission (Commission) will convene a Commissioner-led technical conference in the above-referenced proceeding. The technical conference will take place on November 1, 2024, from 10:00 a.m. to 3:00 p.m. Eastern Time, with a lunch break. The technical conference will be held in person at the Commission's headquarters at 888 First Street NE, Washington, DC 20426 in the Commission Meeting Room. The purpose of this technical conference is to discuss generic issues related to the co-location of large loads at generating facilities. The Commission does not intend to discuss at this technical conference any specific proceeding before the Commission. This supplemental notice provides additional detail as to the planned content of the technical conference and the self-nomination process for interested panelists.

A preliminary agenda for this conference is attached. The Commission will issue a further supplemental notice with a full agenda that includes the list of panelists. The technical conference will be open to the public. Advance registration is not required, and there is no fee for attendance. Information will also be posted on the Calendar of Events on the Commission's website, www.ferc.gov, prior to the event. To stay apprised of issuances in this docket, there is an “eSubscription” link on the Commission's website that enables subscribers to receive email notification when a document is added to a subscribed docket(s).

The technical conference will be transcribed and webcast. Transcripts will be available for a fee from Ace Reporting (202-347-3700). A link to the webcast of this event will be available in the Commission Calendar of Events at www.ferc.gov. The Commission provides technical support for the free webcasts. Please call 202-502-8680 or email customer@ferc.gov if you have any questions.

Commission technical conferences are accessible under section 508 of the Rehabilitation Act of 1973. For accessibility accommodations, please send an email to accessibility@ferc.gov or call toll free 1-866-208-3372 (voice) or 202-208-8659 (TTY) or send a fax to 202-208-2106 with the required accommodations.

Individuals interested in participating as panelists should submit a self-nomination email by 5:00 p.m. Eastern Time on September 19, 2024, to Panelists-AD24-11@ferc.gov. Each nomination should have “Panelist Self-Nomination” in the subject line and state the proposed panelist's name, contact information, organizational affiliation, and what panels and topics the proposed panelist would speak on. Speakers will be asked to provide pre-conference background materials and a written opening statement to facilitate the discussion during the technical conference, and those materials will be available as part of the public record in this docket.

For more information about this technical conference, please contact Keatley Adams at Keatley.Adams@ferc.gov or 202-502-8678. For legal information, please contact Christopher Chaulk at Christopher.Chaulk@ferc.gov or 202-502-6720. For information related to logistics, please contact Sarah McKinley at Sarah.Mckinley@ferc.gov or 202-502-8368.

Dated: September 10, 2024.
Debbie-Anne A. Reese,
Acting Secretary.

[FR Doc. 2024-21022 Filed 9-16-24; 8:45 am]

BILLING CODE 6717-01-P